DEPARTMENT OF AGRICULTURE

Forest Service

New Mexico Collaborative Forest Restoration Program Technical Advisory Panel

AGENCY: Forest Service, USDA.

ACTION: Notice of meeting.

SUMMARY: The New Mexico Collaborative Forest Restoration Program Technical Advisory Panel will meet in Albuquerque, New Mexico. The purpose of the meeting is to provide recommendations to the Regional Forester, USDA Forest Service Southwestern Regional, on which forest restoration grant proposals submitted in response to the Collaborative Forest Restoration Program Request For Proposals best meet the objectives of the Community Forest Restoration Act (Title VI, Pub. L. 106-393).

DATES: The meeting will be held April 26-30, 2004, beginning at 1 p.m. on Monday, April 26 and ending at approximately 4 p.m. on Friday, April 30.

ADDRESSES: The meeting will be held at the Courtyard by Marriott, Journal Center, 5151 Journal Center Blvd., Albuquerque, NM 87109, telephone (505) 823-1919. Written comments should be sent to Walter Dunn, at Cooperative and International Forestry Staff, USDA Forest Service, 333 Broadway SE., Albuquerque, NM 87102. Comments may also be sent via email to wdunn@fs.fed.us, or via facsimile to Walter Dunn at (505) 842-3165.

All comments, including names and addresses when provided, are placed in the record and are available for public inspection and copying. The public may inspect comments received at the Cooperative and International Forestry Staff, USDA Forest Service, 333 Broadway SE., Albuquerque, or during the Panel meeting at the Courtyard by Marriott, Journal Center, 5151 Journal Center Blvd., Albuquerque, NM. Visitors are encouraged to call ahead to the Courtyard by Marriott, Journal Center, 5151 Journal Center Blvd., Albuquerque, NM 8709, telephone (505) 823-1919 to facilitate entry into the building.

FOR FURTHER INFORMATION CONTACT: Walter Dunn, Designated Federal Official, at (505) 842-3425, Elaine Waterbury, at (505) 842-3881, or Angela Sandoval, at (505) 842-3289, Cooperative and International Forestry Staff, USDA Forest Service, 333 Broadway SE., Albuquerque, NM 87102.

Individuals who use telecommunication devices for the deaf (TDD) may call the Federal Information Relay Service (FIRS) at 1-800-877-8339 between 8 a.m. and 8 p.m., Eastern Standard Time, Monday through Friday.

SUPPLEMENTARY INFORMATION: The meeting is open to the public. Council discussion is limited to Forest Service staff and Council members. However, persons who wish to bring Collaborative Forest Restoration Program Grant Review matters to the attention of the Council may file written statements with the Council staff before or after the meeting. Public input sessions will be provided and individuals who made written requests by April 26, 2004, will have the opportunity to address the Council at those sessions.

Dated: March 17, 2004.
Abel M. Camarena,
Deputy Regional Forester.

[FR Doc. 04-6414 Filed 3-22-04; 8:45 am]

BILLING CODE 3410-11-M